FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—02/14/2000
20001477 | Group Laperriere & Verreault Inc | Harnischfeger Industries, Inc., Debtor-in-Possession | Beloit Corporation.
20001534 | Winstar Communications, Inc | Wam!Net, Inc | Wam!Net, Inc.
20001546 | Nortel Networks Corporation | Promatory Communications, Inc | Promatory Communications, Inc.
20001583 | Vivendi, S.A | Three V Capital Limited | Three V Health, Inc.
20001601 | WESCO International, Inc | CC America, Inc | CC America, Inc.
20001604 | Sanmina Corporation | Harris Corporation | Harris Corporation.
20001608 | AT&T Corp | SounDelux Entertainment Group of Delaware, Inc | SounDelux Entertainment Group of Delaware, Inc.
20001632 | Aon Corporation | Gowin Holdings International Limited | Gowin Holdings International Limited.
20001641 | Emerson Electric Company | Telefonaktiebolaget L M Ericsson | Automatic Systems Manufacturing Ltd.
|  |  | Ericsson Components AB.
20001648 | Alberto-Culver Company | Corner J. Cottrell | Pro-Line Corporation.
20001658 | Citigroup, Inc | State Street Corporation | State Street Corporation.
20001662 | State Street Corporation | Citigroup, Inc | Citigroup, Inc.
20001669 | Galileo International, Inc | The Trip.com, Inc | The Trip.com, Inc.
20001691 | CNET, Inc | mySimon Inc | mySimon Inc.
20001696 | UST Inc | Magoon Brothers, Limited | Guenoc Winery, Inc.
20001697 | MJD Communications, Inc | Peoples Mutual Telephone Company | Peoples Mutual Telephone Company.
20001698 | Tyco International Ltd | ITT Industries, Inc | GaAsTEK Division.
20001700 | Thomas Everist | MDU Resources Group, Inc | MDU Resources Group, Inc.
20001701 | MDU Resources Group, Inc | Thomas Everist | Connolly-Pacific Co.
20001704 | RCN Corporation | 21st Century Telecom Group, Inc | 21st Century Telecom Group, Inc.
20001708 | Flowers Industries, Inc | Dr. Bettina Behlsen and Mr. Huberus Bahlsen | BDH, Inc.
20001709 | HON Industries, Inc | Philip T. Mercer | American Fireplace Company, Health & Home, Inc.
20001714 | ST Microelectronics N.V | 8X8, Inc | 8X8, Inc.
20001715 | Conning Capital Partners V, L.P | Intek Information, Inc | Intek Information, Inc.
20001733 | Grupo Carso, S.A. de C.V | CompUSA Inc | CompUSA Inc.
20001735 | Norsk Hydro ASA | Gibbons, Goodwin, van Amerongen | Wells Aluminum Corporation.
20001739 | HA-LO Industries, Inc | Starbelly.com, Inc | Starbelly.com, Inc.
20001740 | Eric Lefkofsky | HA-LO Industries, Inc | HA-LO Industries, Inc.
20001741 | Bradley Keywell | HA-LO Industries, Inc | HA-LO Industries, Inc.
20001746 | theglobe.com, Inc | Yale & Christian Brozen | Chips & Bits, Inc., Strategy Plus, Inc.
20001750 | Reckson Service Industries, Inc | Mitsubishi Estate Co., Ltd | Cushman & Wakefield, Inc.
20001751 | Affiliated Computer Services, Inc | Birch & Davis Holdings, Inc | Birch & Davis Holdings, Inc.
20001754 | David Litman | Barry Diller | HRN, Inc.
20001755 | Robert Diener | Barry Diller | HRN, Inc.
20001756 | Summit Bancorp | MSFG, Inc | MSFG, Inc.
20001757 | Royster-Clark Group, Inc | Waterfield Holdings, Inc. (Debtor-in-possession) | Waterfield Holdings, Inc., (Debtor-in-possession).
20001758 | Softbank Corp | DoveBid, Inc | DoveBid, Inc.
20001761 | SBR, Inc | SMI Holdings, Inc | SMI Holdings, Inc.
20001765 | TPG Partners III, L.P | Gemplus International S.A | Gemplus International S.A.
20001775 | American Plumbing & Mechanical, Inc | Lloyd C. Smith | LDI Heating & Air Conditioning.
|  |  | LDI Mechanical.
|  |  | Lindy Dennis, Inc.
20001776 | Wakenfern Food Corp | William Glazier | Glaizer Supermarkets, Inc.
20001781 | Sidney B. DeBoer | Robert L. Rice | Bob Rice Ford, Inc.
20001783 | Hummer Winblad Venture Partners IV, L.P | Homes.com, Inc | Homes.com, Inc.
TRANSACTIONS GRANTED EARLY TERMINATION—02/15/2000
20001525 | Ariba, Inc | Tradex Technologies, Inc | Tradex Technologies, Inc.
20001565 | U.S. Foodservice | Daniel R. Pollack | Stock Yards Packing Co., Inc.
20001576 | Sinclair Broadcast Group, Inc | Mr. Edwin L. Edwards | WPTT, Inc.
20001639 | George G. Beasley | Howard & Susan Goldsmith | HHH Broadcasting, Inc.
|  |  | HMS Broadcasting, Inc.
|  |  | HMS Broadcasting, Inc.
|  |  | Panamedia Square Realty, Inc.
|  |  | SMH Broadcasting, Inc.
20001707 | Barry Diller | Precision Response Corporation | Precision Response Corporation.
20001712 | HON Industries, Inc | Ron F. Skoronski | Allied Fireside, Inc., Fireplace & Spa, Inc.
|  |  | Madison Fire Place, Inc., The Minocqua Fireplace Company.
20001725 | Linsalata Capital Partners Fund III, L.P | George G. Thomas | Adorn, Inc. and BWT, Inc.
20001795 | United Auto Group, Inc | James W. McKee, III | Huntersville Motors, Inc.
TRANSACTIONS GRANTED EARLY TERMINATION—02/16/2000
19991506 | Lifespan Corporation | Care New England Health System | Care New England Health System.
20001621 | The Dow Chemical Company | Flexible Products Company | Flexible Products Company.
TRANSACTIONS GRANTED EARLY TERMINATION—02/17/2000
20001799 | Abbott Laboratories | Elan Corporation, plc | Elan Pharmaceuticals, Inc.
20001837 | Allied Waste Industries, Inc. | Republic Services Inc | Green Valley Environmental Corp., AAA Disposal of Tenn., Inc.
|  |  | PSI Waste Systems, Inc.
|  |  | Republic Services Group of Pennsylvania Hauling, LLC.
|  |  | York Waste Disposal, Inc.
20001838 | Republic Services Inc. | Allied Waste Industries, Inc | BFI Waste Systems of North America, Inc.
|  |  | Browning-Ferris Industries of Florida, Inc.
|  |  | Browning-Ferris Industries of Florida, Inc.
TRANSACTIONS GRANTED EARLY TERMINATION—02/18/2000
20001515 | Oglebay Norton Company | Michigan Limestone Operations Limited Partnership | Michigan Limestone Operations Limited Partnership.
20001653 | CRH plc | The Shelly Company | The Shelly Company.
TRANSACTIONS GRANTED EARLY TERMINATION—02/22/2000
20001603 | Fresenius Aktiengesellschaft | Morrell M. Avram, M.D | AFMSM, Inc.
20001649 | GlobeSpan, Inc | PairGain Technologies, Inc | PairGain Technologies, Inc.
20001705 | Wallace N. Hersom | Power-One, Inc | Power-One, Inc.
20001771 | KKR 1996 Fund, L.P | DPL, Inc | DPL, Inc.
TRANSACTIONS GRANTED EARLY TERMINATION—02/23/2000
20001496 | Pharmacia & Upjohn, Inc | Novo Nordisk A/S | Novo Nordisk Pharmaceutical, Inc.
20001610 | Harman International Industries, Incorporated | Crown International, Inc | Crown International, Inc.
20001611 | Banco Santander Central Hispano, S.A | Merrill Lynch & Co., Inc | Merrill Lynch, Pierce, Fenner & Smith Incorporated.
20001637 | Teleflex Incorporated | John H. Golden | Medical Marketing Group, Inc.
20001646 | Telstra Corporation Ltd | Extant, Inc | Extant, Inc.
20001655 | Diagnostic Clinic Medical Group, Inc | Caremark RX, Inc | Caremark RX, Inc.
20001671 | Kenneth R. Thomson | Sylvan Learning Systems, Inc | Prometric, Inc.
20001688 | SBC Communications Inc | SBC Communications Inc | Texas/Illinois Cellular Limited Partnership.
20001737 | Workflow Management, Inc | Robert A. Houston Trust | Office Electronics, Inc., Houston Real Estate, Inc.
20001743 | Calpine Corporation | IDACORP, Inc | Hemiston Power Partnership.
20001744 | Calpine Corporation | TransCanada Pipelines Limited | Hemiston Power Partnership.
20001747 | Harald Quandt Beteiligungen GmbH & Co | AGIV Aktiengesellschaft | Carl Schenck AG.
20001759 | Schneider National, Inc. Voting Trust | Michael A. Regan | Tranzact Systems, Ltd.
20001772 | RWE Aktiengesellschaft | MCN Energy Group Inc | MCNIC CSG Pipeline Company.
20001774 | Newell Rubbermaid Inc | Alan S. Tweed | Shur-Line, Inc.
20001777 | Schottenstein Stores Corporation | Filene's Basement Corporation (debtor-in-possession) | Filene's Basement Corporation (debtor-in-possession).
20001778 | Liberate Technologies | Source Media, Inc | SourceSuite LLC.
20001779 | Liberate Technologies | Insight Communications Company, Inc | SourceSuite LLC.
20001787 | Greteg Imaging Holding AG | Sienna Imaging, Inc | Sienna Imaging, Inc.
20001788 | Pequot Partners Fund, L.P | FutureLink Corp | FutureLink Corp.
20001790 | Pequot International Fund, Inc | FutureLink Corp | FutureLink Corp.
20001792 | General Motors Corporation | Pacific Union Real Estate Group, Ltd | Pacific Union Real Estate Group, Ltd.
20001794 | David L. Epstein | Barry Diller | USA Networks, Inc.
20001800 | Source Media, Inc | Liberate Technologies | Liberate Technologies.
20001801 | Insight Communications Company, Inc | Liberate Technologies | Liberate Technologies.
20001802 | ITOCHU Corporation | Robert A. Kolikof | Prudential Metal Supply Corp.
20001803 | Jeffrey H. Smulyan | The Walt Disney Company | Los Angeles Magazine Holding Company, Inc.
20001807 | Kenneth Adelman | Nokia Corporation | Nokia Corporation.
20001808 | David Kashtan | Nokia Corporation | Nokia Corporation.
20001813 | Amazon.com, Inc. | living.com Inc | living.com Inc.
20001816 | Landmark Communications, Inc | Litton Industries, Inc | WSI Corporation.
20001819 | Welsh, Carson, Anderson & Stowe VIII, L.P | Bridge Information Systems, Inc | SAVVIS Communications Corporation.
20001820 | Minnesota Mining and Manufacturing Company | Polaroid Corporation | Polaroid Corporation.
20001824 | North Castle Partners II, L.P | Saratoga Beverage Group, Inc | Saratoga Beverage Group, Inc.
20001825 | HMTF Bridge Partners, L.P | Viatel, Inc | Viatel, Inc.
20001826 | Science Applications International Corporation | ODS Networks, Inc | ODS Networks, Inc.
20001827 | Bracknell Corporation | Sunbelt Integrated Trade Services, Inc | Sunbelt Integrated Trade Services, Inc.
20001828 | The Rank Group Plc | Pioneer Corporation | Pioneer Video Manufacturing, Inc.
20001832 | Amer Group Ltd | Ray DeMarini | DeMarini Sports, Inc.
20001834 | Crown Group, Inc | JELD-WEN, Inc. | West One Automotive Group, Inc.
20001835 | Craig McCaw | Concentric Network Corporation | Concentric Network Corporation.
TRANSACTIONS GRANTED EARLY TERMINATION—02/24/00
20001629 | ValueClick, Inc | ValueClick, Inc | ValueClick, Inc.
20001630 | DoubleClick, Inc | DoubleClick, Inc | DoubleClick, Inc.
20001679 | Omaha World-Herald Company | Joe R. Seacrest Children Ireovocable Trust, Dec. 26, 1985 | Western Publishing Co.
20001734 | Clariant AG | BTP plc | BTP plc.
20001766 | Accel V L.P. | AlphaBlox Corporation | AlphaBlox Corporation.
20001789 | Pequot Private Equity Fund II, L.P. | FutureLink Corp | FutureLink Corp.
20001793 | Birdsong Corporation | ED & F Man Group plc | Farmers Fertilizer & Miller Company, Inc.
20001797 | Madison Dearborn Capital Partners III, L.P. | Dr. Ashok K. Thareja | OrbLynx, Inc.
20001805 | Warren A. Hood, Jr. | Bonar International S.A | Bonar Inc.
20001841 | Elaso Energy Partners, L.P | El Paso Energy Corporation | El Paso Intrastate Alabama Pipeline.
20001845 | BroadVision, Inc | Interleaf, Inc | Interleaf, Inc.
20001846 | Code, Hennessy & Simmons IV, L.P. | PNC Bank Corp | Cerex Advanced Fabrics, L.P.
20001848 | Arch Chemicals, Inc. | Wacker-Chemie GmBH (a German company) | Wacker-Chemie GmbH (a German company).
20001849 | Critical Path, Inc. | RemarQ Communities, Inc | RemarQ Communities, Inc.
20001850 | Omnicom Group Inc. | Bernard Swain | Washington Speakers Bureau, Inc.
20001851 | Omnicom Group Inc. | Harry Rhoads, Jr | Washington Speakers Bureau, Inc.
20001852 | Paul G. Allen | Falcon/Capital Cable Partners, L.P | Falcon/Capital Cable Partners, L.P.
20001859 | Vattern Industrier AB | CMI Industries, Inc | Chatham Borgstena, Inc.
|  |  | CMI Industries, Inc.
20001860 | William P. Stiritz | Ogden Corporation | Ogden Fairmont Inc.
20001864 | Thoma Cressey Fund VI, L.P. | Thomas J. Chisholm | Voice Integrators, Inc.
20001868 | Colony Investors IV, L.P. | FirstWorld Communications, Inc | FirstWorld Communications, Inc.
20001876 | TPG Partners III, L.P. | FirstWorld Communications, Inc | FirstWorld Communications, Inc.
20001877 | T3 Partners, L.P. | FirstWorld Communications, Inc | FirstWorld Communications, Inc.
20001943 | Footstar Inc. | Just For Feet, Inc., debtor-in-possession | Just For Feet of Nevada, Inc., SNKR-Stadium Inc.
|  |  | Just For Feet of Texas, Inc., Just For Feet Specialty Stores.
|  |  | Sneaker Holdings Corp. Athletic Attic Marketing, Inc.
20001753 | Parlex Corporation | Cookson Group plc | Polyflex Circuits, Inc.
20001762 | Brian L. Roberts | TGC, Inc | TGC, Inc.
20001786 | Trelleborg AB | Invensys plc | Invensys plc.
TRANSACTIONS GRANTED EARLY TERMINATION—02/28/2000
20001337 | The DII Group, Inc. | Hewlett-Packard Company | Hewlett-Packard Company.
20001727 | Aur Resources Inc. | Cambior Inc | Cambior Inc.
20001729 | M. Francois Pinault | Charles M. Steiner | Adaryan Co.
|  |  | Branch Electric Supply Co., Inc.
|  |  | Branch Group, Inc.
20001732 | Charterhouse Equity Partners III, L.P. | Gretchen Artig-Swomley | Soft Link, Inc.
20001764 | ViaSat, Inc. | Scientific-Atlanta, Inc | Scientific-Atlantic, Inc.
20001811 | Mohr, Davidow Ventures IV, L.P. | AlphaBlox Corporation | AlphaBlox Corporation.
20001815 | Bruce R. Katz | Prospero Technologies Corporation | Prospero Technologies Corporation.
20001822 | PECO Energy Company | Vitts Networks Group, Inc | Vitts Networks Group, Inc.
20001823 | VTech Holdings Limited | AT&T Corp | AT&T Corp.
20001831 | Newcourt Rail, L.L.C. | The Howard Gillman Foundation, Inc | St. Mary's Railroad Corporation.
20001836 | Citigroup Inc. | Schroders plc | Schroder & Co. Inc.
20001862 | Brian L. Roberts | Richard Treibick | Alexcom Limited Partnership.
20001870 | Frontenac VII Limited Partnership | Robert Ben | System Technology Associates, Inc.
20001873 | Delco Remy International, Inc. | M&M Knopf Auto Parts, Inc | M&M Knopf Auto Parts, Inc.
20001875 | Andrx Corporation | Valmed Pharmaceutical, Inc | Valmed Pharmaceutical, Inc.
20001878 | AT&T Corp. | Cable Communications Cooperative of Palo Alto, Incorporated | Cable Communications Cooperative of Palo Alto, Incroprated.
20001880 | Hicks, Muse, Tate & Furst Equity Fund III, L.P. | Hicks, Muse, Tate & Furst Equity Fund II, L.P. | Wirekraft Industries, Inc.
20001881 | Code, Hennessy & Simmons III, L.P. | Douglas D. Cline | Midland Delivery Service, Inc.
|  |  | Midland Holding Company.
|  |  | Patterson Street Gulf Service, Inc.
20001882 | RNG Group Inc. | Mr. Peter Frank | Ten Hoeve Bros., Inc.
20001883 | LHH Corporation | Manhattan Eye, Ear and Throat Hospital | Manhattan Eye, Ear and Throat Hospital.
20001885 | Bracknell Corporation | Inglett & Stubbs, Inc | Inglett & Stubbs, Inc.
20001886 | Citadel Communications Corporation | Media/Communications Partners III, Limited Partnership | Bloomington Broadcasting Holdings, Inc.
20001889 | Adecco SA | Anthony J. Petullo, Jr | Olsten of Milwaukee, Inc.
20001890 | Intel Corporation | Ambient Techhologies, Inc | Ambient Technologies, Inc.
20001891 | Michael J. Fitzpatrick | JDS Uniphase Corporation | JDS Uniphase Corporation.
20001895 | UGI Corporation | All Star Gas Corporation | All Star Gas, Inc. of California.
|  |  | All Star Gas, Inc. of Idaho.
|  |  | All Star Gas, Inc. of Nevada.
|  |  | All Star Gas, Inc. of Oregon.
|  |  | All Star Gas, Inc. of Washington.
20001897 | Centre Capital Investors III, L.P. | Paxar Corporation | International Imaging Materials, Inc.
20001899 | Sanjay Subhedar | JDS Uniphase Corporation | JDS Uniphase Corporation.
20001900 | Ming Shih | JDS Uniphase Corporation | JDS Uniphase Corporation.
20001908 | SDL, Inc. | Veritech Microwave, Inc | Veritech Mirowave, Inc.
20001910 | Molex Incorporated | Axsys Technologies, Inc | Axsys Technologies, Inc.
20001940 | Sybron International Corporation | SeraCare, Inc | SeraCare Technology, Inc.
20001985 | CVC European Equity Partners II, L.P. | Ronald O. Perelman | Femodyl Professionals Inc.
|  |  | Mafco Holdings, Inc.
|  |  | Roux Laboratories, Inc.
20001998 | CVC European Equity Partners II, L.P. | Beauty Care Professional Products Participations SA | Beauty Care Professionals Products Participations SA.
TRANSACTIONS GRANTED EARLY TERMINATION—02/29/2000
20001914 | Dycom Industries, Inc. | Daniel B. Fugal | Neils Fugal Sons Company.
TRANSACTIONS GRANTED EARLY TERMINATION—03/01/2000
20000901 | American Greeting Corporation | Egreetings Network, Inc | Egreetings Network, Inc..
20000903 | American Greetings Corporation | Gibson Greetings, Inc | Gibson Greetings, Inc.
20001798 | Ascot plc | Dr. Bob G. Gower | Specified Fuels & Chemicals, LLC.
20001915 | Dycom Industries, Inc. | Guy L. Fugal | Neils Fugal Sons Company.
20001916 | Daniel B. Fugal | Dycom Industries, Inc | Dycom Industries, Inc.
20001917 | Guy L. Fugal | Dycom Industries, Inc | Dycom Industries, Inc.
20001986 | Fabri-Steel Products Incorporated | Charles R. Russell, Jr | Progressive Stamping Co., Inc.
TRANSACTIONS GRANTED EARLY TERMINATION—03/02/2000
20001839 | American General Corporation | Berkshire Fund IV, Limited Partnership | Cypress Tree Asset Management Corporation, Inc.
|  |  | Cypress Tree Funds Distributors, Inc.
20001937 | The Washington Post Company | Eugene C. Pullam Trust | Central Newspapers, Inc.
20001974 | Private Equity Investor, III, L.P | Nationwide Formalwear, Inc | Nationwide Formalwear, Inc.
TRANSACTIONS GRANTED EARLY TERMINATION—03/03/2000
20001736 | Monitor Clipper Equity Partners, L.P | Robert Kashan | Earth Color Group, Inc.
20001809 | LMR Protector Limited | Alterra Healthcare Corporation | Alterra Healthcare Corporation.
20001810 | Allied Waste Industries, Inc | Laurel Mountain Partners Investments II, LLC | GEK, Inc.
20001812 | CBS Corporation | Peter J. Callhan | Palm Beach Radio Broadcasting, Inc.
20001821 | Consolidated Edison, Inc. | NorthEast Optic Network, Inc | NEON Communications, Inc.
20001887 | Quanex Corporation | Lincolnshire Equity Fund, L.P | Imperial Products, Inc.
20001901 | Internet Capital Group, Inc. | Universal Access, Inc | Universal Access, Inc.
20001902 | Compagnie de Saint-Gobain | Meyer International PLC | Meyer International PLC.
20001912 | Cardinal Health, Inc | Nestle S.A | Alcon (Puerto Rico) Inc.
20001918 | GTCR Fund VII L.P | Synagro Technologies, Inc | Synagro Technologies, Inc.
20001923 | Taiwan Aerospace Corporation | Sino-Aerospace Investment Corporation | Sino Swearingen Aircraft Corporation.
20001924 | Yao-Hwa Glass Company Ltd., Management Commission | Sino-Aerospace Investment Corporation | Sino Swearingen Aircraft Corporation.
20001930 | Claudio Lucchese | The Siam Cement Public Co. Ltd | TileCera Distributing, Inc.
|  |  | TileCera, Inc.
20001931 | Richard Treibick | USN Communications, Inc. (Debtor-in-Possession) | USN Communications, Inc. (Debtor-in-Possessing).
20001932 | Paul G. Allen | Stamps.com Inc | Encryp Tix, Inc.
20001933 | Symantec Corporation | L-3 Communications Holdings, Inc | L-3 Communications Network Security Systems, L.L.C.
20001939 | Swedish Match AB | General Cigar Holdings, Inc | General Cigar Holdings, Inc.
20001948 | Anthem Insurance Companies, Inc | Associated Hospital Service of Maine | Associated Hospital Service of Maine.
20001949 | Fremont Partners, L.P | Edward J. Wroble | Software Architects Training Company.
|  |  | Software Architects, Inc.
20001950 | Fremont Partners, L.P | Gene G. Petrie | Software Architects, Inc.
20001954 | Paul G. Allen | The Times Mirror Company | The Sporting News.
20001960 | American International Group, Inc | Perini Corporation | Perini Corporation.
20001963 | Swiss Reinsurance Company | PennCorp Financial Group, Inc. debtor-in-possession | Security Life and Trust Insurance Co./Southwestern Life Co.
20001969 | VIAG AG | Cott Corporation | BCB USA Corp.
20001970 | Rhone Capital LLC | Testamentary Trust or Robert E. Richardson | University Swaging, Inc.
20001972 | Microsoft Corporation | T1MSN | T1MSN.
20001973 | Telefonos de Mexico, S.A. de C.V. | T1MSN | T1MSN.
20001981 | Mr. Lance Fors | PE Corporation | PE Corporation.
20001982 | Wells Fargo & Company | Douglas Furniture of California, Inc | Douglas Furniture of California, Inc.
20001983 | Smiths Industries plc | Douglas C. and Betty L. Sampson | Florida RF Labs, Inc.
20001984 | Textron Inc. | Safeguard Scientifics, Inc | Safeguard Scientifics, Inc.
20001987 | Rudiger Baeres | SightSound.com Incorporated | SightSound.com Incorporated.
20001989 | Brockway Moran & Partners Fund, L.P. | Dal D. Rogers | High Tech West, Inc.
20001992 | National Grape Cooperative Association, Inc | General Electric Company | MEP II LLC.
20002001 | White Mountains Insurance Group, Ltd. | Risk Capital Holdings, Inc | Risk Capital Reinsurance Company.
20002003 | William H. Dunn | R.J. Griffith, Jr | R.J. Griffith & Company.
20002006 | Landry's Seafood Restaurants, Inc | Rainforest Cafe, Inc | Rainforest Cafe, Inc.
20002013 | HMTF Equity Fund IV (1999), L.P. | Rhythms NetConnections Inc | Rhythms NetConnections Inc.
20002014 | HMTF Bridge Partners, L.P. | Rhythms NetConnections Inc | Rhythms NetConnections Inc.
20002016 | Summit/DPC Partners, L.P. | Doane Pet Care Enterprises, Inc | Doane Pet Care Enterprises, Inc.
20002022 | Jupiter Partners LLC | Central Vermont Public Service Corp | The HomeServiceStore.com.
TRANSACTIONS GRANTED EARLY TERMINATION—03/06/2000
20001791 | Solvay S.A | Allied Industrial Group, Inc | Chemtech Products, Inc.
20001964 | ATI Technologies, Inc | ArtX, Inc | ArtX, Inc.
TRANSACTIONS GRANTED EARLY TERMINATION—03/07/2000
20002039 | EM.TV & Merchandising AG | The Jim Henson Company, Inc | The Jim Henson Company, Inc.
20002060 | The Bank of New York Company, Inc | Bank of Montreal | Harris Bankcorp Inc.
|  |  | Harris Bankcorp Inc.
20002099 | MBNA Corporation | Comerica Incorporated | Comerica Bank, Comerica Bank, National Association.
|  |  | Comerica Bank—California, Comerica Bank—Texas.
TRANSACTIONS GRANTED EARLY TERMINATION—03/08/2000
20002083 | The Lubrizol Corporation | RPM, Inc | Alox Corporation.
|  |  | Alox of Delaware, Inc.
TRANSACTIONS GRANTED EARLY TERMINATION—03/09/2000
20001830 | Reckson Service Industries, Inc. | HQ Global Workplaces, Inc | HQ Global Workplaces, Inc.
20001840 | Motorola, Inc. | Communication Systems Technology, Inc | Communication Systems Technology, Inc.
20001855 | Ray C. Anderson | CMI Industries, Inc | CMI Industries, Inc.
20001856 | CMGI, Inc. | divine interVentures, Inc | divine interVentures, Inc.
20001857 | divine interVentures, Inc. | CMGI, Inc | CMGI, Inc.
20001903 | Hoya Corporation | Mathias E. Schmidt-Wetekan | Optical Resources Group, Inc.
20001905 | Holy Cross Health System Corporation | St. Mary Hospital of Livonia | St. Mary Hospital of Livonia.
20001906 | Quanta Services, Inc. | Utilities Construction Co., Inc. of South Carolina | Utilities Construction Co., Inc. of South Carolina.
20001911 | Microsoft Corporation | Travelscape.com | Travelscape.com.
20001921 | Holy Cross Health System Corporation | Mercy Health Services | Mercy Health Services.
20001922 | GenRad, Inc. | Thermo Electron Corporation | Sierra Research and Technology, Inc.
20001925 | Bracknell Corporation | Robert Allen and Vicki Sue Schmidt (husband and wife) | Schmidt Electric Company, Inc.
20001941 | Hellman & Friedman Capital Partners IV L.P | Kenneth R. Thomson | The Thomson Company, Inc.
20001947 | Microsoft Corporation | VacationSpot.com, Inc | VacationSpot.com, Inc.
20001967 | NACCO Industries, Inc. | Joseph G. Wheeler | Yale Carolinas, Inc.
20001971 | Anthony Gartland | Sun Microstamping, Inc | Sun Microstamping, Inc.
20001976 | Akamai Technologies, Inc. | InterVU Inc | InterVU Inc.
20001980 | Dentsu Inc. | BDM, Inc. Voting Trust | BDM, Inc.
20001990 | Brockway Moran & Partners Fund, L.P. | Tom D. Rogers | High Tech West, Inc.
20001994 | Jack D. Hightower | Unocal Corporation | Pure Energy Resources, Inc.
20002021 | HMTF Equity Fund IV (1999), L.P. | Metrocall, Inc | Metrocall, Inc.
20002023 | Catholic Health East | SPHS Corporation | Saint Joseph of the Pines, Inc.
20002026 | Daniel Green Company | John R. Riedman | Penobscot Shoe Company.
20002029 | White Mountains Insurance Group, Ltd. | Humana Inc | PCA Property and Casualty Insurance Company.
20002030 | North Castle Partners II, L.P. | Terrence J. Lemerond | Enzymatic Therapy, Inc.
20002055 | ECI Telecom Ltd. | Hubbell Incorporated | Pulse Communications, Inc.
20002134 | AT&T Corp. | GRC International, Inc | GRC International, Inc.
TRANSACTIONS GRANTED EARLY TERMINATION—03/10/2000
20000748 | Gannett Co., Inc. | Joseph Lewis Allbritton | Allbritton Jacksonville, Inc.
|  |  | WJXX Licensee Inc.
20001847 | Finlay Enterprises, Inc | Jay B. Rudolph, Inc | Jay B. Rudolph, Inc.
20001927 | Bain Capital Fund VI, L.P. | VDI Multimedia, Inc | VDI Multimedia, Inc.
20001928 | Medical Manager Corporation | Medical Manager Corporation | The Health Information Network Connection.
20001934 | Verior Inc | CIBER, Inc | Agilera.com, Inc.
20001935 | Leap Wireless International, Inc | Anthony R. Chase | Chase Telecommunications Holdings, Inc.
20001938 | Eugene C. Pulliam Trust | The Washington Post Company | BrassRing, Inc.
20001968 | BCE Inc | United Payors & United Providers Inc | United Payors & United Providers Inc.
20001993 | AT&T Corp | Metrocall, Inc | Metrocall, Inc.
20002004 | Bitten og Mads Clausens Fond | Danfoss Murmann Holoding A/S | Danfoss Murmann Holding A/S.
20002009 | Edward S. Rogers | Andre' Chagnon | Le Groups Videotron Ltee.
20002020 | HMTF Bridge Partners, L.P. | Metrocall, Inc | Metrocall, Inc.
20002024 | BATM Advanced Communications, Limited | World Access, Inc | Telco Systems, Inc.
20002031 | VerticalNet, Inc | Peter LeSaffre | R. W. Electronics, Inc.
20002032 | VerticalNet, Inc | Robert R. Benedict | R. W. Electronics, Inc.
20002033 | Peter L. LeSaffre | VerticalNet, Inc | VerticalNet, Inc.
20002041 | Cisco Systems, Inc | Growth Networks Inc | Growth Networks Inc.
20002046 | Messer Industrie Gesellscaft mbH | Aventis S.A | MG Systems.
20002048 | GS Capital Partners III, L.P. | ProMedCo Management Company | ProMedCo Management Company.
20002050 | Benchmark Capital Partners, II, L.P. | Critical Path, Inc | Critical Path, Inc.
20002051 | Benchmark Founders, Fund II, L.P. | Critical Path, Inc | Critical Path, Inc.
20002052 | The Manitowoc Company, Inc | Multiplex Company, Inc | Multiplex Company, Inc.
20002058 | Oliver Isaac | George M. Hofmeister | American Commercial Steel, Inc.
20002061 | Zebra Technologies Corporation | Alfred J. Petteruti | Comtec Information Systems, Inc.
20002063 | The Titan Corporation | Dr. William C. Lindsey | William C. Lindsey, Inc. (d/b/a LinCom Corporation).
20002064 | Deutsche Post AG | Robert J. Mitzman | Q International Couier, Inc.
20002068 | Clayton Dubilier & Rice Fund VI Limited Partnership | Clayton, Dubilier & Rice Fund V Limited Partnership | Kinko's and Kinkos.com.
20002069 | America Online, Inc | Clayton, Dublilier & Rice Fund V Limited Partnership | Kinko's and Kinkos.com.
20002073 | Capital Z Financial Services Fund II, L.P. | Trading Edge, Inc | Trading Edge, Inc.
20002075 | Union Planters Bank, National Association | Whitney Equity Partners, L.P | Strategic Outsourcing, Inc.
20002077 | H.J. Heinz Company | Junki Yoshida | Yoshida Food Products Co. L.P.
20002078 | Autoliv, Inc | NSK Ltd. | NSK Safety Technology, Inc.
20002082 | United Auto Group, Inc | Declaration of Trust of James G. Pilla | Motorcars East, Inc.
|  |  | Motocars Infiniti, Inc.
|  |  | Motorcars West, Inc.
20002088 | AT&T Corp | Ascent Entertainment Group, Inc | Ascent Entertainment Group, Inc.
20002090 | USANI, LLC | Styleclick.com, Inc | Styleclick.com, Inc.
20002092 | Internet Capital Group, Inc | Onvia.com. Inc | Onvia.com, Inc.
20002093 | Elisabeth Badinter | Fallon Group, Inc | Fallon Group, Inc.
20002094 | SBC Communications Inc | Sterling Commerce, Inc | Sterling Commerce, Inc.
20002102 | AT&T Corp | Dow Jones & Company, Inc | Dow Jones & Company, Inc.
20002103 | Dow Jones & Company, Inc | AT&T Corp | @Home.
|  |  | DJC.
20002107 | Internet Capital Group, Inc | eCredit.com.Inc | eCredit.com, Inc.
20002110 | Peregrine Systems, Inc. | Telco Research Corporation Limited | Telco Research Corporation Limited.
20002111 | Service Corporation International | Memorial Operations Company | Provident Servcies, Inc.
TRANSACTIONS GRANTED EARLY TERMINATION—03/13/2000
20001644 | Eaton Corporation | Honeywell International, Inc | Grimes Aerospace Company.
20002125 | Chesapeake Corporation | Green Printing Company, Inc. Employee Stock Ownership Plan | Green Printing Company, Inc.
20002140 | Billing Concepts Corp | Donald C. Licciardello | Princeton eCom Corporation.
20002142 | Christopher E. Edgecomb | World Access, Inc | World Access, Inc.
20002146 | Salah M. Hassanein | AT&T Corp | AT&T Corp.
20002151 | AT&T Corp | Crown Media Holdings, Inc | Crown Media Holdings, Inc.
20002154 | Red Robin International Inc., a Nevada Corporation | The Snyder Group Company, a Delaware Corporation | The Snyder Group Company, a Delaware Corporation.
20002157 | Phone.com, Inc | Onebox.com, Inc | Onebox.com, Inc.
20002158 | Young & Rubicam Inc | Robinson Lerer & Montgomery, LLC | Robinson Lerer & Montgomery, LLC.
20002162 | Triumph Group, Inc | Roger W. Blanchard | ACR Industries, Inc.
20002165 | Mackie Designs Inc | Evelyn Berger | Eastern Acoustic Works, Inc.
20002168 | Rexall Sundown, Inc | David J. McCabe | Worldwide Sports Nutritional Supplements, Inc.
20002169 | Stichting Administratiekantoor ABN AMRO Holding | Bank One Corporation | American National Bank & Trust Company.
20002170 | EnergyUnited Electric Membership Corporation | All Star Gas Corporation | All Star Gas Corporation.
20002173 | Chase Manhattan Corporation | Crown Media Holdings, Inc | Crown Media Holdings, Inc.
20002175 | JDA Software Group, Inc | Pricer AB | Intactix International.
20002177 | Warburg, Pincus Equity Partners, L.P. | Gerald W. Schwartz | insLogic.com Holding Corporation.
20002180 | CMGI, Inc. | Tallan, Inc | Tallan, Inc.
20002181 | Beacon Group Energy Investment Fund II, L.P. | Capstone Turbin Corporation | Capstone Turbine Corporation.
20002182 | Vitro, S.A. de C.V. | SunSource, Inc | Harding Glass, Inc.
20002191 | Thayer Equity Investors IV, L.P. | A.B. Holdings, LLC | EnterpriseWorks, LLC.
20002195 | John Swire & Sons Limited | Coca-Cola Bottling Company of Ogden | Coca-Cola Bottling Company of Ogden.
20002197 | Dan River Inc. | Nicholas Papaley | Import Specialists, Inc.
20002200 | Alpha Industries, Inc. | Network Device, Inc | Network Device, Inc.
20002206 | Ocean Group plc | Exel plc | Exel plc.
20002219 | MBNA Corporation | Regions Financial Corporation | Regions Bank.
TRANSACTIONS GRANTED EARLY TERMINATION—03/14/2000
20001894 | Xantrex Technology, Inc. | OCM Principal Opportunities Fund, L.P. | Trace Holdings, LLC.
20001977 | Shamrock Holdings, Inc. | Pacific Dunlop Limited | Pacific Dunlop Limited.
20002019 | Daniel H. Rosenblum | ED & F Man Holdings Limited (Newco) | ED & F Man Holdings Limited (Newco).
20002028 | Madison River Telephone Company, LLC | Coastal Utilities, Inc | Coastal Utilities, Inc.
20002034 | Aether System, Inc. | Metrocall, Inc | Metrocall, Inc.
20002035 | Adelphia Communications Corporation | Anverse, Inc | Prestige Communications, Inc.
20002049 | PSINet, Inc. | Metrocall, Inc | Metrocall, Inc.
20002054 | Pacific Gateway Exchange, Inc. | Samuel Delug | NOS Communications, Inc.
|  |  | NOSVA Limited Partnership.
20002207 | Iron Mountain Incorporated | Stephen M. Suddath | Data Storage Center, Inc.
|  |  | DSC of Florida, Inc.
|  |  | DSC of Massachusetts, Inc.
20002209 | Staples, Inc. | BizBuyer.com, Inc. | BizBuyer.com, Inc.
TRANSACTIONS GRANTED EARLY TERMINATION—03/15/2000
1992349 | Alain de Krassny | Albright & Wilson plc | Albright & Wilson plc.
19992524 | Rhone-Poulenc, S.A. | Alain De Krassny | Danube Chemcials Acquisition Corporation.
20001919 | NatSteel Electronics, Ltd. | NEC Corporation | NEC America, Inc.
20001979 | Leucadia National Corporation | Fidelity National Financial, Inc. | Fidelity National Financial, Inc.
20002017 | TPG Partners III, L.P. | Mary Pat Link and John D. Strohm | Interlink Group, Incorporated.
20002018 | T3 Partners, L.P. | Mary Pat Link and John D. Strohm | Interlink Group, Incorporated.
20002066 | Paul G. Desmarais | Aetna Inc | Aetna Inc.
20002123 | Thayer Equity Investors III, L.P. | ePlus inc | ePlus inc.
20002166 | Charles W. Ergen | Michael Kelly | Kelly Broadcasting Systems, Inc.
20002190 | Michael Kelly | Charles W. Ergen | Echostar Communications Corporation.
TRANSACTIONS GRANTED EARLY TERMINATION—03/16/2000
20000874 | Spectrum Equity Investors II, L.P. | Pathnet Telecommunications, Inc | Pathnet Telecommunications, Inc.
20000875 | Spectrum Equity Investors, L.P. | Pathnet Telecommunications, Inc | Pathnet Telecommunications, Inc.
20000881 | Colonial Telecommunictions, Inc. | Pathnet Telecommunications, Inc | Pathnet Telecommunications, Inc.
20000883 | CSX Corporation | Pathnet, Inc | Pathnet Inc.
20001035 | Burlington Northern Santa Fe Corporation | Pathnet Telecommunications, Inc | Pathnet Telecommunications, Inc.
20001942 | T3 Partners, L.P. | Gemplus International S.A | Gemplus International S.A.
20001944 | Maximus, Inc. | David B. Crawford | Crawford Consulting, Inc.
20001945 | John C. Malone | Cendant Corporation | Cendant Corporation.
20001959 | IWO Holdings, Inc. | Sprint Corporation | Sprint Spectrum L.P., Sprint Spectrum Equipment Company, L.P.
|  |  | Sprint Spectrum Realty Company, L.P.
20002053 | Pacific Gateway Exchange, Inc. | Robert A. Lichtenstein | NOS Communications, Inc.
|  |  | NOSVA Limited Partnership.
20002057 | Terayon Communication Systems, Inc. | Tyco International Ltd | Tyco International Ltd.
20002059 | Nalato AB | Shieldmate Robotics, Inc | Shieldmate Robotics, Inc.
20002080 | Parksite, Inc. | Plunkett-Webster, Inc | Plunkett-Webster, Inc.
20002087 | Gary L. Wilson | Bridgeport Holdings Inc | Bridgeport Holdings Inc.
20002128 | Gilbert Global Equity Partners, L.P. | Amkor Technology, Inc | Amkor Technology, Inc.
20002129 | Gilbert Global Equity Partners (Bermuda) L.P. | Amkor Technology, Inc | Amkor Technology, Inc.
20002130 | AIG Global Emerging Markets Fund, L.L.C. | Amkor Technology, Inc | Amkor Technology, Inc.
20002131 | AIG Asian Opportunity Fund, L.P. | Amkor Technolgoy, Inc | Amkor Technology, Inc.
20002137 | Wingate Partners II, L.P. | RWE AG | REP Environmental Processes, Inc.
20002141 | World Access, Inc. | Christopher E. Edgecomb | Christoper E. Edgecomb.
20002178 | TDK Corporation | Headway Technologies, Inc | Headway Technologies, Inc.
20002193 | Benjamin M. Rosen | Capstone Turbine Corporation | Capstone Turbine Corporation.
20002208 | The United Company | Bebe Selig Burns | West End Lumber Company, Inc.
20002216 | Roper Industries, Inc. | Goerdt K. Abel | AHC, Inc.
20002220 | North Castle Partners II, L.P. | Chiquita Brands International, Inc | California Day-Fresh Foods, Inc.
20002242 | Softbank Corp. | Electron Economy, Inc | Electron Economy Inc.
TRANSACTIONS GRANTED EARLY TERMINATION—03/17/2000
20001997 | Unocal Corporation | General Motors Corporation | Energy Spectrum-Alberta Hub, Inc.
20002074 | The Sherwin-Williams Company | General Polymers Corporation | General Polymers West, Inc.
20002079 | Adsteam Marine Limited | Booth Creek Partners Limited IV, LLLP | Northland Holdings, Inc.
20002081 | United Auto Group, Inc. | Lee G. Seidman | Motorcars East, Inc.
|  |  | Motorcars Infiniti, Inc.
|  |  | Motorcars West, Inc.
20002132 | SCP Private Equity Partners II, L.P. | Amkor Technology, Inc | Amkor Technology, Inc.
20002135 | SAFECO Corporation | Concur Technologies, Inc | Concur Technologies, Inc.
20002138 | Walter-Sutton Media Partners, L.P. | Choice One Communications, Inc | Choice One Communications, Inc.
20002144 | MSCP III 892 Investors, L.P. | Choice One Communications, Inc | Choice One Communications, Inc.
20002152 | Voting Trust dated December 4, 1968 of v/s of Hallmark Cards | Crown Media Holdings, Inc | Crown Media Holdings, Inc.
20002179 | Quantum Industrial Holdings, Ltd. | CuraGen Corporation | CuraGen Corporation.
20002275 | Prestige Brands International, Inc. | Procter & Gamble Company, (The) | The Procter & Gamble Manufacturing Company.
TRANSACTIONS GRANTED EARLY TERMINATION—03/20/2000
20001833 | Global Employment Solutions, Inc. | TEAM America Corporation | TEAM America Corporation.
20002027 | Computershare Limited | Bank of Montreal | Harris Bancorp, Inc., Harris Trust and Savings Bank.
|  |  | Harris Trust Company of California.
|  |  | Harris Trust Company of New York.
20002036 | Adelphia Communications Corporation | Jonathan J. Oscher | Presitge Communications of NC, Inc.
20002095 | Alta Subordinated Debt Partners III, L.P. | Marshall W. Pragon | Pegasus Communications Corporation.
20002096 | Alta Communications VI, L.P. | Marshall W. Pagon | Pegasus Communications Corporation.
20002097 | Spectrum Equity Investors, L.P. | Marshall W. Pagon | Pegasus Communications Corporation.
20002098 | Spectrum Equity Investors II, L.P. | Marshall W. Pagon | Pegasus Communications Corporation.
20002139 | Quad-C Partners V, L.P. | Skylark Company, Ltd | Red Robin International, Inc.
20002147 | AT&T Corp. | Wine.com, Inc | Wine.com, Inc.
20002153 | El Paso Energy Corporation | ONEOK, Inc | ONEOK Gas Processing, L.L.C.
20002174 | Vivendi, S.A. | The Times Mirror Compnay | The StayWell Company.
20002185 | Asbury Automotive Group, L.L.C. | M.F. Hutchinson | Hutchinson Automotive Group.
20002192 | Fremont Investor, Inc. | DoveBid, Inc | DoveBid, Inc.
20002196 | The William Communications Group, Inc. | SBC Communications Inc | Ameritech Communications, Inc.
20002199 | TRW Inc. | Endgate Corporation | Endgate Corporation.
20002214 | Reliant Energy, Incorporated | Vivendi S.A | Sithe Northeast Generating Company, Inc.
20002215 | Everett R. Dobson Irrevocable Family Trust | Lone Star Cellular, Inc | Lone Star Cellular, Inc.
20002218 | Equity Residential Properties Trust | Globe Holding Co., Inc | Globe Holding Co., Inc.
20002222 | Equifax Inc. | R.L. Polk & Co | R.L. Polk & Co.
20002223 | Amerada Hess Corporation | Den norske stats oljeselskap a.s | Statoil Energy Services, Inc.
20002227 | Clarica Life Insurance Company | Sun Life Assurance Co. of Canada | Sun Life of Canada Reinsurance (Barbados) Limited.
|  |  | Sun Life of Canada Reinsurance (U.S.) Holdings, Inc.
20002231 | The Heritage Group | Pennzoil-Quaker State Company | Pennzoil-Quaker State Company.
20002233 | Cenex Harvest States Cooperatives | Dakota Valley Mill, LLC | Dakota Valley Mill, LLC.
20002245 | Advance Group, Inc. | TSG2 L.P | Sunburst Products, Inc.
20002247 | Tweeter Home Entertainment Group, Inc. | Shelley Miller | United Audio Centers, Inc.
20002248 | ESCO Electronics Corporation | William E. Curran, Sr | Lindgren,Inc Inc.
20002250 | Ridley Corporation Limited | Contigroup Companies, Inc | Contigroup Companies Inc.
20002252 | Ennis Business Forms, Inc. | Northstar Computer Forms, Inc | Northstar Computer Forms, Inc.
20002267 | William U. Parfet | Monsanto Company | Monsanto Company.
20002268 | Donald Parfet | Monsanto Company | Monsanto Company.
20002286 | Canadian Occidental Petroleum, Ltd. | Occidental Petroleum Corporation | CXY Chemicals U.S.A.
TRANSACTIONS GRANTED EARLY TERMINATION—03/21/2000
20001631 | i2 Technologies, Inc. | International Business Machines Corporation | International Business Machine Corporation.
20001861 | James E. Koons | Estate of James M. Kline | Kline Collision Repair Center, Inc.
|  |  | Kline Imports of Arlington, Inc.
|  |  | Kline Tysons Imports, Inc.
20002253 | SPX Corporation | Fenner PLC | Fenner PLC.
20002255 | SBS Technologies, Inc | SDL Communications, Inc | SDL Communications, Inc.
20002271 | FPL Group, Inc | Enron Corporation | Lake Benton Power Partners II, LLC.
20002278 | Henry J. Bertolon, Jr | Gateway, Inc | Gateway, Inc.
20002280 | Wolters Kluwer nv | Harcourt General, Inc | Harcourt General, Inc.
20002293 | Countrywide Credit Industries, Inc. | FirstPlus Financial Group, Inc | Western Interstate Bancorp.
20002296 | United Auto Group, Inc. | Russell J. Dellen | Dellen Oldsmobile, Inc.
20002297 | Campart S.p.A | Montedison S.p.A | Montedison S.p.A.
20002305 | Everest Re Group, Ltd | The Prudential Insurance Company of America | Gilbraltar Casualty Company.
20002309 | Brian L. Roberts | Netlab L.L.C | Online Retail Partners, Inc.
20002310 | Bass PLC | Bristol Hotels & Resorts | Bristol Hotels & Resorts
20002317 | Leggett & Platt, Incorporated | Gunter & Gloria Preuss (spouses) | Genesis Fixtures, Inc.
TRANSACTIONS GRANTED EARLY TERMINATION—03/22/2000
20002010 | Unican Security Systems Ltd | Jimmy Hamilton | Mas-Hamilton Group, Inc.
20002113 | EDO Corporation | AIL Technologies Inc | AIL Technologies Inc.
20002229 | Gerald W. Schwartz | Dana Corporation | Echlin Inc.
20002236 | Myllykoski Corporation | OCM Opportunities Fund, L.P. | FSC Corporation
TRANSACTIONS GRANTED EARLY TERMINATION—03/22/2000
20002056 | Medical Manager Corporation | Blue Cross and Blue Shield of. | Blue Cross and Blue Shield of Massachusetts, Inc.
20002067 | Mortgage.com, Inc | Openclose.com, Inc | Openclose.com, Inc., a Florida Corporation
20002104 | Tyco International Ltd | The Morgan Crucible Company plc | Dulmison Inc.
20002109 | BuildNet, Inc | NxTrend Technology, Inc | NxTrend Technology, Inc.
20002201 | Lee Enterprises, Incorporated | Midwest Publishing Statutory Trust | Midwest Publishing Statutory Trust
20002202 | Green Equity Investors II, L.P. | Midwest Publishing Statutory Trust | Adrian Access Shopper, Sturgis Journal, The Weekender (TMC)
|  |  | Adrian Daily Reporter, Adrian Medley (TMC)
|  |  | Sturgis Getaway Shopper, Coldwater Daily Reporter
|  |  | The Reporter Extra (TMC), Coldwater Shoppers Guide
20002257 | Perot Systems Corporation | Mark G. Miller | Solutions Consulting, Inc.
20002258 | Mark G. Miller | Perot Systems Corporation | Perot Systems Corportion.
20002260 | Reed International P.L.C | Endeavor Information Ssystems, Inc | Endeavor Information Systems, Inc.
20002261 | Elsevier NV | Endeavor Information Systems, Inc | Endeavor Information Systems, Inc.
20002282 | Harcourt General, Inc | Harcourt General, Inc | M.D. Consult, LLC.
20002298 | FFT Partners I, L.P. | SICOR, Inc | SICOR, Inc
20002300 | Marc Ladreit de Lacharriere | Duff & Phelps Credit Rating Co | Duff & Phelps Credit Rating Co.
20002312 | FFT Partners I, L.P | Vectis Corporation | Vectis Corporation.
20002313 | Vectis Corporation | Telesis Medical Management, Inc | Telesis Medical Management, Inc.
20002318 | N.V. Bekaert S.A | United Solar Systems Corp | United Solar Systems Corp.
20002319 | United Rentals, Inc | Robert Linekin | R.P.L. Equipment Co., Inc.
20002321 | Mortimer B. Zuckerman | Embark.com, Inc | Embark.com, Inc
20002322 | Embark.com, Inc. | Mortimer B. Zuckerman | U.S. News & World Report LP.
20002327 | Andrew J. McKelvey | System One Services, Inc | System One Services, Inc.
20002330 | Schlumberger Limited | CellNet Data Systems, Inc | CellNet Data Systems, Inc.
20002331 | Rockwell International Corporation | Entek IRD International Corporation | Entek IRD International Corporation.
20002335 | Clarian Health Partners, Inc. | Goshen Health Systems, Inc | Goshen Health Systems, Inc.
20002341 | COMSYS Holding, Inc. | Marsh Newmark | Design Strategy Corporation.
|  |  | Network Integration Services, Inc.
20002343 | Netcentives Inc. Post Communications, Inc Post Communications, Inc.
20002344 | DLJ Merchant Banking Partners II, L.P. | UbiquiTel Holdings, Inc | UbiquiTel Holdings, Inc.
20002345 | MDS Inc. Phoenix International Life Sciences Inc | Phoenix International Life Sciences Inc.
20002352 | Vincent A. Sheehy & Helen M. Sheehy | Richard E. Strauss Dick Strauss Ford, Inc.
20002359 | NetlQ Corp. Mission Critical Software Inc Mission Critical Software Inc.
20002361 | Tera Computer Company Silicon Graphics, Inc | Silicon Graphics, Inc.
20002421 | Citigroup Inc | The Nikko Securities Co., Ltd | The Nikko Securities Co., Ltd.
TRANSACTIONS GRANTED EARLY TERMINATION—03/24/2000
20002136 | The Toronto-Dominion Bank | Pathnet Telecommunications, Inc | Pathnet Telecommunications, Inc.
20002224 | New Enterprise Associate VI, Limited Partnership | Pathnet Telecommunications, Inc | Pathnet Telecommunications, Inc.
20002244 | Triton Network Systems, Inc. | International Buisness Machines Corporation | International Business Machines Corporation.
20002358 | Marconi plc | Addison Fischer | Xcert International, Inc.
20002435 | TPG Partners III, LP | Global Medical Products, Inc | Global Medical Products, Inc.

FOR FURTHER INFORMATION CONTACT:

Sandra M. Peay or Parcellena P. Fielding, Contact Representatives. Federal Trade Commission, Premerger Notification Office, Bureau of Competition, Room 303, Washington, D.C. 20580, (202) 326-3100.

By Direction of the Commission.
Donald S. Clark,
Secretary.

[FR Doc. 00-9267 Filed 4-13-00; 8:45 am]

BILLING CODE 6750-01-M